DEPARTMENT OF COMMERCE

National Oceanic and Atmospheric Administration

RIN 0648-XE313

New England Fishery Management Council; Public Meeting; Addendum

AGENCY: National Marine Fisheries Service (NMFS), National Oceanic and Atmospheric Administration (NOAA), Commerce.

ACTION: Notice of public meeting, additional agenda item.

SUMMARY: The New England Fishery Management Council (Council, NEFMC) will hold a three-day meeting to consider actions affecting New England fisheries in the exclusive economic zone (EEZ).

DATES: The meeting will be held on Tuesday, Wednesday and Thursday, December 1-3, 2015, starting at 9 a.m. on December 1, at 8:30 a.m. on December 2, and at 8:15 a.m. December 3.

ADDRESSES: The meeting will be held at the Holiday Inn by the Bay, 88 Spring Street, Portland, ME 04101; telephone: (207) 775.2311, fax: (207) 761.8224, or online at www.innbythebay.com/.

Council address: New England Fishery Management Council, 50 Water Street, Mill 2, Newburyport, MA 01950; telephone: (978) 465-0492.

FOR FURTHER INFORMATION CONTACT: Thomas A. Nies, Executive Director, New England Fishery Management Council; (978) 465-0492, ext. 113.

SUPPLEMENTARY INFORMATION: The original notice published in the Federal Register on November 13, 2015 (80 FR 70188). This notice includes an additional agenda item to be added to the meeting on December 3, 2015.

Agenda

Thursday, December 3, 2015

On Thursday, December 3, the final day of New England Fishery Management Council's last meeting in 2015, the NEFMC will hold a brief closed session at 8:15 a.m. At that time, Council members will review the roster of applicants for open seats on its Scientific and Statistical Committee and appoint members for 2016-18.

Although other non-emergency issues not contained in this agenda may come before this Council for discussion, those issues may not be the subject of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Thomas A. Nies (see ADDRESSES) at least 5 days prior to the meeting date.

Dated: November 16, 2015.
Tracey L. Thompson,
Acting Deputy Director, Office of Sustainable Fisheries, National Marine Fisheries Service.

[FR Doc. 2015-29545 Filed 11-18-15; 8:45 am]

BILLING CODE 3510-22-P